GENERAL SERVICES ADMINISTRATION

[OMB Control No. 3090-0252; Docket No. 2018-0001; Sequence No. 13]

Information Collection; GSA Mentor Protégé Program and Preparation, Submission, and Negotiation of Subcontracting Plans

AGENCY: Office of Acquisition Policy, General Services Administration (GSA).

ACTION: Notice of termination regarding an existing OMB clearance.

SUMMARY: Under the provisions of the Paperwork Reduction Act, the Regulatory Secretariat Division has submitted to the Office of Management and Budget (OMB) a request to terminate previously approved information collection requirements under OMB Control Number 3090-0252, Preparation, Submission, and Negotiation of Subcontracting Plans.

DATES: Submit comments on or before February 25, 2019.

ADDRESSES: Submit comments regarding the information collection to: Office of Information and Regulatory Affairs of OMB, Attention: Desk Officer for GSA, Room 10236, NEOB, Washington, DC 20503. Additionally submit a copy to GSA by any of the following methods:

• Submit comments via the Federal eRulemaking portal by searching the OMB control number. Select the link “Submit a Comment” that corresponds with “Information Collection; Preparation, Submission, and Negotiation of Subcontracting Plans”. Follow the instructions provided at the “Submit a Comment” screen. Please include your name, company name (if any), and “Information Collection; Preparation, Submission, and Negotiation of Subcontracting Plans” on your attached document.

• Mail: General Services Administration, Regulatory Secretariat Division (MVCB), 1800 F Street NW, Washington, DC 20405, ATTN: Ms. Mandell/IC 3090-0286 and IC 3090-0252.

Instructions: Please submit comments only and cite “Information Collection; Preparation, Submission, and Negotiation of Subcontracting Plans”, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Dana Bowman, General Services Acquisition Policy Division, GSA, by phone at 202-357-9652 or by email at dana.bowman@gsa.gov.

SUPPLEMENTARY INFORMATION:

Purpose

GSA no longer requires agency supplemental subcontracting plan information, as it is duplicative of the requirements in the Federal Acquisition Regulation (FAR) clause 52.219-9, Small Business Subcontracting Plan. Specifically, GSAR Section 519.708, Contract Clauses and associated provisions: 552.219-71, Notice to Offerors of Subcontracting Plan Requirements, 552.219-72, Preparation, Submission, and Negotiation of Subcontracting Plans, and 552.219-73, Goals for Subcontracting Plans have been removed.

Jeffrey A. Koses,
Director, Office of Acquisition Policy, Office of Government-wide Policy.

[FR Doc. 2018-27884 Filed 12-21-18; 8:45 am]

BILLING CODE 6820-61-P